DEPARTMENT OF TRANSPORTATION

Federal Aviation Administration

14 CFR Part 71

[Airspace Docket No. 00-AAL-07]

Proposed Revision of VOR Federal Airway and Jet Route; AK

AGENCY: Federal Aviation Administration (FAA), DOT.

ACTION: Notice of proposed rulemaking (NPRM).

SUMMARY: This action proposes to revise Very High Frequency Omnidirectional Range (VOR) Federal Airway 480 (V-480) and Jet Route 120 (J-120) in Alaska by adding a routinely used route segment between Mt. Moffett and St. Paul Island, AK. The FAA is proposing to revise these routes for the following reasons: The conversion of this uncharted nonregulatory route to a VOR Federal airway and jet route would add to the instrument flight rules (IFR) airway and route infrastructure in Alaska; pilots would be provided with minimum en route altitudes and minimum obstruction clearance altitudes information; this amendment would establish controlled airspace, thus eliminating some of the commercial IFR operations in uncontrolled airspace; and the addition of this route would improve the management of air traffic operations and thereby enhance safety.

DATES: Comments must be received on or before November 27, 2000.

ADDRESSES: Send comments on the proposal in triplicate to: Manager, Air Traffic Division, AAL-500, Docket No. 00-AAL-07, Federal Aviation Administration, 222 West 7th Avenue, #14, Anchorage, AK 99533.

The official docket may be examined in the Rules Docket, Office of the Chief Counsel, Room 916, 800 Independence Avenue, SW., Washington, DC, weekdays, except Federal holidays, between 8:30 a.m. and 5:00 p.m.

An informal docket may also be examined during normal business hours at the office of the Regional Air Traffic Division.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this action must submit with those comments a self-addressed, stamped postcard on which the following statement is made: “Comments to Airspace Docket No. 00-AAL-07.” The postcard will be date/time stamped and returned to the commenter. All communications received on or before the specified closing date for comments will be considered before taking action on the proposed rule. The proposal contained in this action may be changed in light of comments received. All comments submitted will be available for examination in the Rules Docket both before and after the closing date for comments. A report summarizing each substantive public contact with FAA personnel concerned with this rulemaking will be filed in the docket.

Availability of NPRM's

An electronic copy of this document may be downloaded, using a modem and suitable communications software, from the FAA regulations section of the Fedworld electronic bulletin board service (telephone: 703-321-3339) or the Federal Register's electronic bulletin board service (telephone: 202-512-1661).

Internet users may reach the FAA's web page at http://www.faa.gov or the Superintendent of Document's web page at http://www.access.gpo.gov/nara for access to recently published rulemaking documents.

Any person may obtain a copy of this NPRM by submitting a request to the Federal Aviation Administration, Office of Air Traffic Airspace Management, ATA-400, 800 Independence Avenue, SW., Washington, DC 20591, or by calling (202) 267-8783. Communications must identify the docket number of this NPRM. Persons interested in being placed on a mailing list for future NPRM's should call the FAA's Office of Rulemaking, (202) 267-9677, for a copy of Advisory Circular No. 11-2A, Notice of Proposed Rulemaking Distribution System, which describes the application procedure.

The Proposal

The FAA is proposing an amendment to 14 CFR part 71 (part 71) to revise V-480 and J-120 in Alaska. This proposed revision would convert an uncharted nonregulatory route segment to a VOR Federal airway and jet route by adding a segment to V-480 and J-120 between Mt. Moffett and St. Paul Island, AD. Presently, this segment is an uncharted route that is used by air carrier and general aviation aircraft. The FAA is proposing to amend V-480 and J-120 for the following reasons: (1) The conversion of this uncharted nonregulatory route to a VOR Federal airway and jet route would add to the IFR airway and route infrastructure in Alaska; (2) pilots would be provided with minimum en route altitudes and minimum obstruction clearance altitudes information; (3) this amendment would establish controlled airspace, thus eliminating some of the commercial IFR operations in uncontrolled airspace; and (4) the addition of this route would improve the management of air traffic operations and thereby enhance safety.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Jet routes and Alaskan VOR Federal airways are published in paragraphs 2004 and 6010(b), respectively, of FAA Order 7400.9H dated September 1, 2000, and effective September 16, 2000, which is incorporated by reference in 14 CFR 71.1. The Jet route and the Alaskan VOR Federal airway listed in this document would be published subsequently in the order.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9H, Airspace Designations and Reporting Points, dated September 1, 2000, and effective September 16, 2000, is amended as follows:

Paragraph 2004—Jet Routes

* * * * *

J-120 [Revised]

From Mt. Moffett, AK, NDB via St. Paul Island, AK, NDB; Bethel, AK; McGrath, AK; Fairbanks, AK; Fort Yukon, AK; to the Barter Island, AK, NDB.

* * * * *

Paragraph 6010(b)-Alaskan VOR Federal Airways

* * * * *

V-480 [Revised]

From Mt. Moffett, AK, NDB, 20 AGL via St. Paul Island, AK, NDB, 20 AGL, Kipnuk, AK; Bethel, AK, McGrath, AK, Nenana, AK; to Fairbanks, AK.

* * * * *

Issued in Washington, DC, on September 29, 2000.
Reginald C. Matthews,
Manager, Airspace and Rules Division.

[FR Doc. 00-25640 Filed 10-10-00; 8:45 am]

BILLING CODE 4910-13-P